DEPARTMENT OF AGRICULTURE

Forest Service

Revision of the Land Management Plan for the Flathead National Forest

AGENCY: Forest Service, USDA.

ACTION: Notice of initiating the development of a land management plan revision for the Flathead National Forest.

SUMMARY: The Flathead National Forest, located in Montana, is initiating the forest planning process pursuant to the 2012 Forest Planning Rule. This process results in a Forest Land Management Plan which describes the strategic direction for management of forest resources for the next ten to fifteen years on the Flathead National Forest. The first phase of the process, the assessment phase, has begun and interested parties have been invited to contribute in the development of the assessment (36 CFR 219.6). The Forest has posted preliminary assessment information to its Web site as well as hosted field tours and an open house. The assessment is expected to be completed in December 2013. The trends and conditions identified in the assessment will help in identifying the need for plan components. The Forest is inviting the public to help us identify the appropriate plan components that will become a proposed action for the land management plan revision.

DATES: The assessment for the Flathead National Forest is expected to be completed by December 31, 2013 and will be posted on the following Web site at www.fs.usda.gov/goto/flathead/forestplanrevision.

From October 2013 through June 2014, the public is invited to engage in a collaborative process to identify appropriate plan components to be considered for the proposed action. The Forest will then initiate procedures pursuant to the NEPA and prepare a forest plan revision.

ADDRESSES: Written comments or questions concerning this notice should be addressed to Flathead National Forest, Attn.: Plan Revision, 650 Wolfpack Way, Kalispell, Montana, 59901.

FOR FURTHER INFORMATION CONTACT: Joe Krueger, Planning Team Leader, 406-758-5243. Individuals who use telecommunication devices for the deaf (TDD) may call the Federal Information Relay Service (FIRS) at 1-800-877-8339 between 8 a.m. and 8 p.m., Eastern Time, Monday through Friday.

More information on the planning process can also be found on the Flathead National Forest Web site at www.fs.usda.gov/goto/flathead/forestplanrevision.

SUPPLEMENTARY INFORMATION: The National Forest Management Act (NFMA) of 1976 requires that every National Forest System (NFS) unit develop a land management plan. On April 9, 2012, the Forest Service finalized its land management planning rule (2012 Planning Rule), which provides broad programmatic direction to National Forests and National Grasslands for developing and implementing their land management plans. Forest plans describe the strategic direction for management of forest resources for ten to fifteen years, and are adaptive and amendable as conditions change over time.

Under the 2012 Planning Rule, the assessment of ecological, social, and economic trends and conditions is the first stage of the planning process. The second stage is a development and decision process guided, in part, by the National Environment Policy Act (NEPA) and includes the preparation of a draft environmental impact statement and revised Forest Plan for public review and comment, and the preparation of the final environmental impact statement and revised Forest Plan. The third stage of the process is monitoring and feedback, which is ongoing over the life of the revised forest plans.

With this notice, the agency invites other governments, non-governmental parties, and the public to contribute to the development of the proposed action. The intent of public engagement during development of the proposed action is to identify the appropriate plan components that the Forest Service should consider in developing its land management plan. We encourage contributors to share material about desired conditions, standards and guidelines, land suitability determinations, management area designations, and plan monitoring. Collaboration in the development of the proposed action supports the development of relationships of key stakeholders throughout the plan development process and is an essential step to understanding current conditions, available data, and feedback needed to support a strategic, efficient planning process.

As public meetings, other opportunities for public engagement, and public review and comment opportunities are identified to assist with the development of the forest plan revision, public announcements will be made, notifications will be posted on the Forest's Web site at www.fs.usda.gov/goto/flathead/forestplanrevision and information will be sent out to the Forest's mailing list. If anyone is interested in being on the Forest's mailing list to receive these notifications, please contact Joe Krueger, Planning Team Leader, at the mailing address identified above, by sending an email to flatheadplanrevision@fs.fed.us, or by telephone 406-758-5243.

Responsible Official

The responsible official for the revision of the land management plan for the Flathead National Forest is Chip Weber, Forest Supervisor, Flathead National Forest, 650 Wolfpack Way, Kalispell, MT 59901.

Dated: October 28, 2013.
Chip Weber,
Forest Supervisor.

[FR Doc. 2013-26289 Filed 11-1-13; 8:45 am]

BILLING CODE 3410-83-P